DEPARTMENT OF COMMERCE

International Trade Administration

[A-471-807]

Certain Uncoated Paper From Portugal: Final Results of Antidumping Duty Administrative Review; 2015-2017

AGENCY: Enforcement and Compliance, International Trade Administration, Department of Commerce.

SUMMARY: The Department of Commerce (Commerce) is amending its final results of the administrative review of the antidumping duty (AD) order on certain uncoated paper from Portugal to correct a ministerial error.

DATES: Applicable October 18, 2018.

FOR FURTHER INFORMATION CONTACT: Carrie Bethea, AD/CVD Operations, Office V, Enforcement and Compliance, International Trade Administration, U.S. Department of Commerce, 1401 Constitution Avenue NW, Washington, DC 20230; telephone: (202) 482-1491.

SUPPLEMENTARY INFORMATION:

Background

On August 13, 2018, the Department of Commerce (Commerce) published its Final Results of the first administrative review of the antidumping duty order on certain uncoated paper from Portugal.¹ Also on August 13, 2018, The Navigator Company, S.A. (Navigator), the respondent in this administrative review, submitted comments alleging ministerial errors in Commerce's Final Results.² On August 22, 2018, United Steel, Paper and Forestry, Rubber, Manufacturing, Energy, Allied Industrial Service Workers International Union, AFL-CIO, CLC (USW); and the Packaging Corporation of America (PCA) (collectively, the petitioners), submitted a reply rebutting Navigator's ministerial error allegation.³ Following the comment period, Navigator contested Commerce's Final Results before the Court of International Trade. As such, Commerce obtained leave of court to consider Navigator's ministerial allegations.

¹ See Certain Uncoated Paper from Portugal: Final Results of Antidumping Duty Administrative Review; 2015-2017, 83 FR 39982 (August 13, 2018) (Final Results), and accompanying Issues and Decision Memorandum (IDM).

² See Navigator's Letter, “Ministerial Error Allegation,” dated August 13, 2018 (Navigator Ministerial Error Allegation).

³ See Petitioners' Letter, “Petitioners' Response to Navigator's Ministerial Error Allegation,” dated August 22, 2018 (Petitioners' Ministerial Error Response).

Amendment to Final Results

Commerce reviewed the record and agrees in part with Navigator that it committed a ministerial error in our application of AFA.⁴ In our Final Results, Commerce commited an inadvertent error within the meaning of section 735(e) of the Tariff Act of 1930 (the Act) and 19 CFR 351.224(f).⁵ Therfore, pursuant to 19 CFR 351.224(e), Commerce is amending the Final Results to reflect the correction of this ministerial error in the calculation of the final margin assigned to Navigator, which changes from 37.34 percent to 1.75 percent.⁶

⁴ See Memorandum, “Ministerial Error Memorandum for the Amended Final Results of the First Administrative Review,” signed concurrently with this notice.

⁵ Id.

⁶ See Memorandum, “Amended Final Determination Calculations for the Navigator Company, S.A.,” dated October XX, 2018.

Commerce also agrees with Navigator that we incorrectly published the period of review (POR) in the “Final Results of Review” section in the Final Results, which should have been stated as the period of August 26, 2015, through February 28, 2017. These amended final results of the review reflect the correct POR throughout.

Amended Final Results of the Review

We determine that, for the period of August 26, 2015, through February 28, 2017, the following weighted-average dumping margin exists:

Exporter/producer | Weighted- average dumping margin (percent)
The Navigator Company, S.A | 1.75

Disclosure

We intend to disclose the calculation performed for these amended final results in accordance with 19 CFR 351.224(b).

Duty Assessment

Commerce shall determine, and U.S. Customs and Border Protection (CBP) shall assess, antidumping duties on all appropriate entries covered by this review.

In accordance with Commerce's “automatic assessment” practice, for entries of subject merchandise during the POR produced by Navigator for which it did not know that the merchandise was destined for the United States, we will instruct CBP to liquidate those entries at the all-others rate if there is no rate for the intermediate company(ies) involved in the transaction.

We intend to issue instructions to CBP 15 days after the publication date of the final results of this review.

Cash Deposit Requirements

The following cash deposit requirements will be effective upon publication of the notice of final results of administrative review for all shipments of the subject merchandise entered, or withdrawn from warehouse, for consumption on or after the publication date of the final results of this administrative review, as provided by section 751(a)(2)(C) of the Act: (1) The cash deposit rate for Navigator will be the rate established in the final results of this administrative review; (2) for merchandise exported by producers or exporters not covered in this administrative review but covered in a prior segment of the proceeding, the cash deposit rate will continue to be the company-specific rate published for the most recently completed segment of this proceeding; (3) if the exporter is not a firm covered in this review, a prior review, or the original investigation, but the producer is, the cash deposit rate will be the rate established for the most recently completed segment of this proceeding for the producer of the subject merchandise; and (4) the cash deposit rate for all other manufacturers or exporters will continue to be 7.80 percent, the all-others rate established in the investigation.⁷ These cash deposit requirements, when imposed, shall remain in effect until further notice.

⁷ See Certain Uncoated Paper from Portugal: Final Determination of Sales at Less than Fair Value and Final Negative Determination of Critical Circumstances, 81 FR 3105 (January 20, 2016).

Notification to Importers

This notice also serves as a final reminder to importers of their responsibility under 19 CFR 351.402(f)(2) to file a certificate regarding the reimbursement of antidumping duties prior to liquidation of the relevant entries during this POR. Failure to comply with this requirement could result in the Secretary's presumption that reimbursement of antidumping and/or countervailing duties occurred and the subsequent assessment of doubled antidumping duties.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

We are issuing and publishing this notice in accordance with section 735(e) of the Act and 19 CFR 351.224(e) and (f).

Dated: October 9, 2018.
Gary Taverman,
Deputy Assistant Secretary for Antidumping and Countervailing Duty Operations, performing the non-exclusive functions and duties of the Assistant Secretary for Enforcement and Compliance.

[FR Doc. 2018-22575 Filed 10-17-18; 8:45 am]

BILLING CODE 3510-DS-P